ENVIRONMENTAL PROTECTION AGENCY

[FRL-8922-4]

Science Advisory Board Staff Office; Notification of Two Public Teleconferences of the Science Advisory Board Integrated Nitrogen Committee

AGENCY: Environmental Protection Agency (EPA).

ACTION: Notice.

SUMMARY: The EPA Science Advisory Board (SAB) Staff Office announces two public teleconferences of the SAB Integrated Nitrogen Committee (INC) to discuss the committee's draft report.

DATES: The SAB INC will conduct two public teleconferences on July 8, 2009 and July 9, 2009. Both teleconferences will begin at 12 p.m. and end at 3 p.m. (Eastern Time).

ADDRESSES: The teleconferences will be conducted by telephone only.

FOR FURTHER INFORMATION CONTACT: Any member of the public wishing to obtain general information concerning the two public teleconferences may contact Dr. Angela Nugent, Designated Federal Officer (DFO), via telephone at (202) 343-9981 or e-mail at nugent.angela@epa.gov. General information concerning the EPA Science Advisory Board can be found on the EPA Web site at http://www.epa.gov/sab.

SUPPLEMENTARY INFORMATION: Pursuant to the Federal Advisory Committee Act, Public Law 92-463 5 U.S.C., App. 2 (FACA), notice is hereby given that the SAB INC will hold two public teleconferences to discuss its draft report. The SAB was established pursuant to 42 U.S.C. 4365 to provide independent scientific and technical advice to the Administrator on the technical basis for Agency positions and regulations. The SAB is a Federal Advisory Committee chartered under the Federal Advisory Committee Act (FACA), as amended, 5 U.S.C., App. 2. The SAB will comply with the provisions of FACA and all appropriate SAB Staff Office procedural policies.

Background: The SAB INC is studying the need for integrated research and management strategies to reduce reactive nitrogen in the environment. At the global scale, reactive nitrogen from human activities now exceeds that produced by natural terrestrial ecosystems. Reactive nitrogen both benefits and impacts the health and welfare of people and ecosystems. Scientific information suggests that reactive nitrogen is accumulating in the environment and that nitrogen cycling through biogeochemical pathways has a variety of consequences. Information about the committee's previous meetings is available on the SAB Web site at http://yosemite.epa.gov/sab/sabproduct.nsf/fedrgstr_activites/Nitrogen%20Project.

The purpose of the teleconferences is for the SAB INC to discuss the committee's draft report addressing the environmental problems presented by reactive nitrogen and providing recommendations related to an integrated nitrogen management strategy.

Availability of Meeting Materials: Agendas and materials in support of the teleconferences will be placed on the SAB Web site at http://www.epa.gov/sab in advance of each teleconference.

Procedures for Providing Public Input: Interested members of the public may submit relevant written or oral information for the SAB INC to consider during the advisory process. Oral Statements: In general, individuals or groups requesting an oral presentation at a public teleconference will be limited to three minutes per speaker, with no more than a total of one hour for all speakers. Each person making an oral statement should consider providing written comments as well as their oral statement so that the points presented orally can be expanded upon in writing. Interested parties should contact the DFO, in writing (preferably via e-mail) at the contact information noted above, by July 6, 2009 to be placed on the list of public speakers for the meeting.

Written Statements: Written statements should be received in the SAB Staff Office by July 6, 2009 so that the information may be made available to the Committee members for their consideration. Written statements should be supplied to the DFO in the following formats: one hard copy with original signature, and one electronic copy via e-mail (acceptable file format: Adobe Acrobat PDF, MS Word, MS PowerPoint, or Rich Text files in IBM-PC/Windows 98/2000/XP format). Submitters are requested to provide versions of each document submitted with and without signatures, because the SAB Staff Office does not publish documents with signatures on its Web sites.

Accessibility: For information on access or services for individuals with disabilities, please contact Dr. Angela Nugent at (202) 343-9981 or nugent.angela@epa.gov. To request accommodation of a disability, please contact Dr. Nugent preferably at least ten days prior to the teleconferences to give EPA as much time as possible to process your request.

Dated: June 17, 2009.
Anthony Maciorowski,
Deputy Director, EPA Science Advisory Staff Office.

[FR Doc. E9-14858 Filed 6-23-09; 8:45 am]

BILLING CODE 6560-50-P